DEPARTMENT OF TRANSPORTATION

Federal Aviation Administration

14 CFR Part 71

[Docket No. FAA-2019-0034; Airspace Docket No. 19-ASW-1]

RIN 2120-AA66

Proposed Revocation of Class E Airspace; Alpine, TX: Withdrawal

AGENCY: Federal Aviation Administration (FAA), DOT.

ACTION: Notice of proposed rulemaking (NPRM); withdrawal.

SUMMARY: The FAA is withdrawing the NPRM published in the Federal Register on August 12, 2019, to amend Class E airspace extending upward from 700 feet above the surface at Alpine-Casparis Municipal Airport, Alpine, TX.

DATES: As of September 26, 2019 the proposed rule published on August 12, 2019, at 84 FR 39784, is withdrawn.

FOR FURTHER INFORMATION CONTACT: Christopher Southerland, Federal Aviation Administration, Operations Support Group, Central Service Center, 10101 Hillwood Parkway, Fort Worth, TX 76177; telephone (817) 222-5900.

SUPPLEMENTARY INFORMATION:

History

On August 12, 2019 (84 FR 39784), the FAA published in the Federal Register an NPRM proposing to modify Class E airspace extending upward from 700 feet above the surface at Alpine, TX, due to the decommissioning of the Brewster County non-directional beacon (NDB).

FAA's Conclusions

The NPRM is being withdrawn due to this being a duplicate of a previous NPRM that was published in the Federal Register on February 20, 2019 (84 FR 5016).

List of Subjects in 14 CFR Part 71

Airspace, Incorporation by reference, Navigation (air).

The Withdrawal

Accordingly, pursuant to the authority delegated to me, the NPRM published in the Federal Register on August 12, 2019 (84 FR 39784) [FR Doc. 2019-0034] is hereby withdrawn.

Authority: 49 U.S.C. 106(f), 106(g); 40103, 40113, 40120; E.O. 10854, 24 FR 9565, 3 CFR, 1959-1963 Comp., p. 389.

Issued in Fort Worth, Texas, on September 20, 2019.
Johanna Forkner,
Acting Manager, Operations Support Group, ATO Central Service Center.

[FR Doc. 2019-20931 Filed 9-25-19; 8:45 am]

BILLING CODE 4910-13-P